DEPARTMENT OF STATE

[Public Notice: 9208]

Meeting on United States-Singapore Free Trade Agreement Environment Chapter Implementation and Biennial Review Under the United States-Singapore Memorandum of Intent on Environmental Cooperation

ACTION: Notice of meeting on United States-Singapore Free Trade Agreement Environment Chapter implementation and the Biennial Review under the United States-Singapore Memorandum of Intent on Environmental Cooperation, and request for comments.

SUMMARY: The U.S. Department of State and the Office of the United States Trade Representative (USTR) are providing notice that the United States and Singapore intend to hold a meeting on implementation of the United States-Singapore Free Trade Agreement (FTA) Environment Chapter and the Biennial Review under the Memorandum of Intent on Environmental Cooperation (MOI) on August 3, 2015. The purpose of the meeting is to review implementation of Chapter 18 (Environment) of the United States-Singapore FTA and the results of environmental cooperation under the MOI guided by the 2013-2014 Plan of Action (POA), which was extended to the end of 2015. The United States and Singapore also expect to approve a new 2016-2017 POA.

The meeting's public session will be held on August 3, 2015, at 5:00 p.m. at the U.S. Department of State, 2201 C Street NW., Washington, DC 20520, Room 1408. The Department of State and USTR invite interested organizations and members of the public to attend the public session, and to submit in advance written comments or suggestions regarding implementation of Chapter 18 and the POAs, and any issues that should be discussed at the meetings. If you would like to attend the public session, please notify Tiffany Prather and David Oliver at the email addresses listed below under the heading ADDRESSES. Please include your full name and any organization or group you represent.

In preparing comments, submitters are encouraged to refer to:

• Chapter 18 of the FTA, https://ustr.gov/trade-agreements/free-trade-agreements/singapore-fta/final-text

• the Final Environmental Review of the FTA, https://ustr.gov/sites/default/files/Singapore%20final%20review.pdf, and

• the 2013-2014 POA, www.state.gov/documents/organization/209543.pdf

These and other useful documents are available at: https://ustr.gov/trade-agreements/free-trade-agreements/singapore-fta and at http://www.state.gov/e/oes/eqt/trade/singapore/index.htm

DATES: The public session for the meeting on FTA Environment Chapter implementation and the Biennial Review under the MOI will be held on August 3, 2015, at 5:00 p.m., at the U.S. Department of State, 2201 C Street NW., Washington, DC 20520, Room 1408. Written comments and suggestions should be submitted no later than July 31, 2015 to facilitate consideration.

ADDRESSES: Written comments and suggestions should be submitted to both:

(1) Tiffany Prather, Office of Environmental Quality and Transboundary Issues, U.S. Department of State, by electronic mail at PratherTA@state.gov with the subject line “U.S.-Singapore Meeting”; and

(2) David Oliver, Office of Environment and Natural Resources, Office of the United States Trade Representative, by electronic mail at David_Oliver@ustr.eop.gov with the subject line “U.S.-Singapore Meeting.”

FOR FURTHER INFORMATION, CONTACT: Tiffany Prather, Telephone (202) 647-4548.

SUPPLEMENTARY INFORMATION: The FTA entered into force on January 1, 2004. The MOI entered into force on June 13, 2003. Section 3 of the MOI calls for biennial meetings to review the status of environmental cooperation and update the POA. In 2014, the United States and Singapore agreed to extend the 2013-2014 POA through 2015.

Dated: July 23, 2015.
Deborah Klepp,
Director, Office of Environmental Quality and Transboundary Issues, Department of State.

[FR Doc. 2015-18697 Filed 7-29-15; 8:45 am]

BILLING CODE 4710-09-P